DEPARTMENT OF HEALTH AND HUMAN SERVICES

National Institutes of Health

National Heart, Lung, and Blood Institute; Notice of Meeting

Pursuant to section 1009 of the Federal Advisory Committee Act, as amended, notice is hereby given of meeting of the National Asthma Education Prevention Program Coordinating Committee.

The meeting will be held as a virtual meeting and will be open to the public as indicated below. Individuals who plan to view the virtual meeting and need special assistance or other reasonable accommodations to view the meeting, should notify the Contact Person listed below in advance of the meeting. The meeting can be accessed from the NIH Videocast at the following link: https://videocast.nih.gov/watch=54913.

Name of Committee: National Asthma Education Prevention Program Coordinating Committee.

Date: September 23, 2024.

Time: 11:00 a.m. to 1:00 p.m.

Agenda: Programmatic and Scientific Updates.

Place: National Institutes of Health, 6705 Rockledge Drive, Bethesda, MD 20892, https://videocast.nih.gov/watch=54913 (Virtual Meeting).

Contact Person: Mihaela Stefan, Ph.D., Program Director, National Heart, Lung, and Blood Institute, National Institutes of Health, 6705 Rockledge Drive, Bethesda, MD 20892, 301-435-4782, mihaela.stefan@nih.gov.

Any member of the public interested in presenting oral comments to the committee may notify the Contact Person listed on this notice at least 10 days in advance of the meeting. Interested individuals and representatives of organizations may submit a letter of intent, a brief description of the organization represented, and a short description of the oral presentation. Only one representative of an organization may be allowed to present oral comments and if accepted by the committee, presentations may be limited to five minutes. Both printed and electronic copies are requested for the record. In addition, any interested person may file written comments with the committee by forwarding their statement to the Contact Person listed on this notice. The statement should include the name, address, telephone number and when applicable, the business or professional affiliation of the interested person.

Information is also available on the Institute's/Center's home page: https://www.nhlbi.nih.gov/advisory-and-peer-review-committees/national-asthma-education-andprevention-program-coordinating, where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Dated: July 24, 2024.
Miguelina Perez,
Program Analyst, Office of Federal Advisory Committee Policy.

[FR Doc. 2024-16680 Filed 7-29-24; 8:45 am]

BILLING CODE 4140-01-P